DEPARTMENT OF COMMERCE

National Oceanic and Atmospheric Administration

RIN 0648-XJ41

Endangered Species; File No. 1549

AGENCY: National Marine Fisheries Service (NMFS), National Oceanic and Atmospheric Administration (NOAA), Commerce.

ACTION: Notice; receipt of application for modification

SUMMARY: Notice is hereby given that Dr. Boyd Kynard, S.O. Conte Anadromous Fish Research Center (USGS-BRD), Box 796, One Migratory Way, Turners Falls, MA 01376, has requested a modification to scientific research Permit No. 1549.

DATES: Written, telefaxed, or e-mail comments must be received on or before September 3, 2008.

ADDRESSES: The modification request and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1549.

FOR FURTHER INFORMATION CONTACT: Malcolm Mohead or Kate Swails, (301)713-2289.

SUPPLEMENTARY INFORMATION: The subject modification to Permit No. 1549, issued on February 1, 2007 (72 FR 5680), is requested under the authority of the Endangered Species Act of 1973, as amended (16 U.S.C. 1531 et seq.), and the regulations governing the taking, importing, and exporting of endangered and threatened species (50 CFR 222-226).

Permit No. 1549 currently authorizes the permit holder to determine up and downstream migrations, habitat use, spawning periodicity, seasonal movements, and growth of shortnose sturgeon in the Connecticut River (from Agawan to Montague, MA), and in the Merrimack River (at Haverhill, MA), and in the Androscoggin River (ME). In addition, Dr. Kynard is authorized to take a total of 1,000 fertilized eggs annually from each of the following rivers: Kennebec River and Androscoggin River (ME); Merrimack River (MA); Hudson River (NY); Delaware River (DE); Potomac River (MD); and Santee-Cooper River (SC).

The permit holder is now requesting to conduct new research in the Merrimack River authorizing him: (1) to take 200 adult/large juvenile and 100 small juvenile (0-3 years) shortnose sturgeon; (2) to use trawls for capture of smaller juveniles; (3) to telemetry tag 15 adults/large juveniles and 15 early juveniles; (4) to change the action area to include the Estuary to I-495 at Haverhill, Massachusetts; and (5) to increase incidental mortality of shortnose sturgeon to a total of three fish. The purpose of the proposed modification is to provide a mark/recapture population estimate for the river and to provide evidence for recolonization verses recruitment to explain an apparent recent increase in abundance of shortnose sturgeon found in the river. This modification would be valid through the expiration date of the original permit, January 31, 2012.

Dated: July 28, 2008.
P. Michael Payne,
Chief, Permits, Conservation and Education Division, Office of Protected Resources, National Marine Fisheries Service.

[FR Doc. E8-17818 Filed 8-1-08; 8:45 am]

BILLING CODE 3510-22-S